DEPARTMENT OF THE TREASURY

Office of the Comptroller of the Currency

[OCC Charter Number 700133]

Fifth District Savings Bank, New Orleans, Louisiana; Approval of Conversion Application

Notice is hereby given that on May 10, 2024, the Office of the Comptroller of the Currency (OCC) approved the application of Fifth District Savings Bank, New Orleans, Louisiana, to convert to the stock form of organization. Copies of the application are available on the OCC website at the FOIA Reading Room (https://foia-pal.occ.gov/palMain.aspx) under Mutual to Stock Conversion Applications. If you have any questions, please contact Licensing Activities at (202) 649-6260.

(Authority: 12 CFR 192.205).

Dated: May 10, 2024.
By the Office of the Comptroller of the Currency.
Stephen A. Lybarger,
Deputy Comptroller for Licensing.

[FR Doc. 2024-10939 Filed 5-17-24; 8:45 am]

BILLING CODE 4810-33-P